DEPARTMENT OF HEALTH AND HUMAN SERVICES

Administration for Children and Families

Proposed Information Collection Activity; State Plan Child Support Collection and Establishment of Paternity Title IV-D of the Social Security Act

AGENCY: Office of Child Support Enforcement, Administration for Children and Families, U.S. Department of Health and Human Services.

ACTION: Request for public comments.

SUMMARY: The Office of Child Support Enforcement (OCSE), Administration for Children and Families (ACF), U.S. Department of Health and Human Services (HHS), is requesting a 3-year extension of the forms OCSE-21-U4: Transmittal and Notice of Approval of State Plan Material for: Title IV-D of the Social Security Act, and OCSE-100: State Plan (Office of Management and Budget (OMB) # 0970-0017, expiration July 31, 2023). No changes are proposed.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: OCSE has approved an IV-D state plan for each state. Federal regulations require states to amend their state plans only when necessary to reflect new or revised federal statutes or regulations or material change in any state laws, regulations, policies, or IV-D agency procedures. The requirement for submission of a state plan and plan amendments for the Child Support Enforcement program is found in sections 452, 454, and 466 of the Social Security Act.

Respondents: State IV-D Agencies.

Annual Burden Estimates
Instrument | Total number of respondents | Annual number of responses per respondent | Average burden hours per response | Annual burden hours
State Plan (OCSE-100) | 54 | 12 | .5 | 324
State Plan Transmittal (OCSE-21-U4) | 54 | 12 | .25 | 162

Estimated Total Annual Burden Hours: 486.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C 652, 654, and 666.

John M. Sweet, Jr.,
ACF/OPRE Certifying Officer.

[FR Doc. 2023-00764 Filed 1-17-23; 8:45 am]

BILLING CODE 4184-41-P